ENVIRONMENTAL PROTECTION AGENCY

[EPA-HQ-OAR-2006-0130; FRL-8690-3]

Protection of Stratospheric Ozone: Notice of Data Availability; Information Concerning the Destruction of Ozone-Depleting Substances in the United States

AGENCY: Environmental Protection Agency (EPA).

ACTION: Notice of data availability and request for comment.

SUMMARY: The Environmental Protection Agency (EPA) is making available to the public information concerning the destruction of controlled ozone-depleting substances (ODSs) in the United States. As a Party to the Montreal Protocol on Substances that Deplete the Ozone Layer (Montreal Protocol) and consistent with the requirements of the Clean Air Act (CAA) as amended in 1990, the United States regulates the destruction of ODSs in a manner that prevents (or minimizes) emissions of the substances into the atmosphere, where they deplete the stratospheric ozone layer. Regulations governing the destruction of ODSs in the United States are contained in 40 CFR part 82, subpart A, and include seven permitted destruction technologies, required destruction efficiency, and associated recordkeeping and reporting requirements. In addition to the stratospheric ozone protection regulations under the CAA, a number of other regulations also govern the destruction of ODSs in the United States including, but not limited to, regulations promulgated under the Resource Conservation and Recovery Act (RCRA).

Today, EPA is making available the draft report Destruction of Ozone-Depleting Substances in the United States, prepared by ICF International. The report analyzes ODS destruction practices in the United States and includes data on the types and quantities of ODSs destroyed in the United States in previous years, estimates of future destruction trends, and a review of technologies currently being employed to destroy ODSs. Because EPA plans to use the technical information when developing regulations, EPA wants to provide the public with an opportunity to review the information and submit comments. Specifically, EPA requests comments on the report's characterization of current destruction practices and its estimates of types and quantities of controlled substances available in the future for destruction in the United States. EPA will only consider comments about the information presented in Destruction of Ozone-Depleting Substances in the United States and is not soliciting comments on any other topic.

DATES: EPA will accept comments on the report through September 15, 2008.

ADDRESSES: Submit your comments, identified by EDocket ID No. EPA-HQ-OAR-2006-0130, by one of the following methods:

• Federal eRulemaking Portal: http://www.regulations.gov. Follow the on-line instructions for submitting comments.

• E-mail: a-and-r-Docket@epa.gov.

• Fax comments to (202) 566-1741.

• Mail: Submit comments to Air and Radiation Docket at EPA West, 1301 Constitution Avenue, NW., Room B108, Mail Code 6102T, Washington, DC 20460, and Phone: (202) 566-1742.

Instructions: Direct your comments to EDocket ID No. EPA-HQ-OAR-2006-0130. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment.

If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

EPA has established a public docket for this ICR under Docket ID No. EPA-HQ-OAR-2006-0130, which is available for online viewing at http://www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use http://www.regulations.gov to obtain a copy of the draft collection of information, submit or view public comments, access the index listing of the contents of the docket, and to access those documents in the public docket that are available electronically. Once in the system, select “search,” then key in the docket ID number identified in this document.

FOR FURTHER INFORMATION CONTACT: Kirsten M. Cappel, by regular mail: U.S. Environmental Protection Agency, Stratospheric Protection Division (6205J), 1200 Pennsylvania Avenue, NW., Washington, DC 20460; by courier service or overnight express: 1310 L Street, NW., Room 1047C Washington, DC 20005; by telephone: (202) 343-9556; or by e-mail: cappel.kirsten@epa.gov.

SUPPLEMENTARY INFORMATION:

Outline

1. What is today's action?

2. What information is EPA making available for review and comment?

3. Where can I get the information?

4. How is this action related to the existing regulations to phase out ODSs?

5. What is EPA taking comment on and what supporting documentation do I need to include in my comments?

6. What should I consider as I prepare my comments for EPA?

1. What is today's action?

This notice of data availability (NODA) provides for public review and comment the report Destruction of Ozone-Depleting Substances in the United States. The report examines data pertaining to the types and quantities of ODSs destroyed in the United States in previous years, and estimates the types and quantities available in the future. In addition, the report presents information about existing technologies being employed domestically to destroy ODSs. The report also includes a summary of regulations promulgated under RCRA and the CAA that govern the destruction of ODSs. The contractor's summary of existing regulations appears in the report purely to provide context for the technical information presented and does not represent EPA guidance or interpretation.

2. What information is EPA making available for review and comment?

EPA is making available, for review and comment, a draft report prepared by ICF International under contract to EPA, Destruction of Ozone-Depleting Substances in the United States.

3. Where can I get the information?

All of the information can be obtained through the Air Docket (see ADDRESSES section above for docket contact info). In addition, a link to the report Destruction of Ozone-Depleting Substances in the United States will be on the EPA Web site: http://www.epa.gov/ozone/strathome.html.

4. How is this action related to the existing regulations to phase out ODSs?

EPA is considering amending its regulations governing the import of ODSs listed as either “Class I” or “Class II” controlled substances under 40 CFR part 82, subpart A in cases where ODSs are being imported for destruction. Over the last several years most developed countries have largely phased out of the most ozone-depleting ODSs, replacing them with substances that damage the ozone layer less or not at all. This transition has resulted in substantial quantities of ODSs that may have reached the end of their usefulness and thus potentially could be destroyed.

EPA recognizes that when importers are importing ODSs for destruction, a set of requirements designed to address this specific situation may be needed to ensure that the material that enters the United States is destroyed effectively. The information contained in the report will assist EPA as it prepares to propose revised regulations for imports of controlled ODSs for purposes of destruction in the United States.

5. What is EPA taking comment on and what supporting documentation do I need to include in my comments?

EPA is only accepting comments on the accuracy and completeness of the information outlined in this NODA and contained in the report Destruction of Ozone-Depleting Substances in the United States. Specifically, EPA requests comment on topics contained in this report including but not limited to:

• Current destruction practices, including procedures for collecting and destroying ODSs;

• ODSs destruction costs, including transportation costs, capital costs associated with equipment upgrades (i.e., to prevent corrosion from acid gases), and actual costs of destroying ODSs;

• Estimates of types and quantities of ODSs available in the future for destruction;

• Capacity of destruction facilities in the United States to destroy ODSs currently and in the future;

• The extent to which destruction facilities in the United States and internationally are meeting the technical performance qualifications recommended by the Ozone Secretariat's Technology and Economic Assessment Panel (TEAP) in the April 2002 Report of the Task Force on Destruction Technologies, and whether they are able to demonstrate that they are meeting those recommendations (i.e., providing trial burn data); and

• Types of destruction technologies available internationally to destroy ODSs.

EPA requests that commenters provide corrected information or suggested language, along with the rationale as to why the existing text was incorrect or incomplete. In addition, please provide any published studies or raw data supporting your claim. At this time, EPA is not requesting comments of a general or editorial nature, or unsubstantiated opinion.

6. What should I consider as I prepare my comments for EPA?

You may find the following suggestions helpful for preparing your comments:

1. Explain your views as clearly as possible.

2. Describe any assumptions that you used.

3. Provide any technical information or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number In the subject line on the first page of your response. It would also be helpful if you provided the name, date, and Federal Register citation related to your comments.

Dated: July 7, 2008.
Edward Callahan,
Acting Director, Office of Atmospheric Programs, Office of Air and Radiation.

[FR Doc. E8-16384 Filed 7-16-08; 8:45 am]

BILLING CODE 6560-50-P